DEPARTMENT OF ENERGY

Federal Energy Regulatory Commission

[Docket No. RP04-87-001]

Southern Star Central Gas Pipeline, Inc.; Notice of Filing of Final OFO Penalty Refund Report

June 4, 2004.

Take notice that on May 28, 2004, Southern Star Central Gas Pipeline, Inc. (Southern Star) tendered for filing, pursuant to Order by the Commission issued April 20, 2004, its final report of Operational Flow Order (OFO) refunds.

Southern Star states that there were no Periods of Daily Balancing (PODB) issued during the twelve-month period from October 1, 2002, through September 30, 2003, and no PODB penalties were assessed or collected for such period. Furthermore, Southern Star clarifies in this final refund report that it collected all OFO penalties that were assessed for the 12 month period ending September 30, 2003.

Southern Star states that a copy of its filing was served on all jurisdictional customers and interested State commissions, as well as parties appearing on the official service list for this docket.

Any person desiring to protest said filing should file a protest with the Federal Energy Regulatory Commission, 888 First Street, NE., Washington, DC 20426, in accordance with Section 385.211 of the Commission's Rules and Regulations. All such protests must be filed on or before the protest date as shown below. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Protest Date: June 11, 2004.

Linda Mitry,
Acting Secretary.

[FR Doc. E4-1330 Filed 6-9-04; 8:45 am]

BILLING CODE 6717-01-P